ENVIRONMENTAL PROTECTION AGENCY

[FRL-9904-34]

Environmental Laboratory Advisory Board (ELAB) Meeting Dates and Agenda

AGENCY: Environmental Protection Agency.

ACTION: Notice of Teleconference and Face-to-Face Meetings.

SUMMARY: The Environmental Protection Agency's Environmental Laboratory Advisory Board (ELAB), as previously announced, holds teleconference meetings the third Wednesday of each month at 1:00 p.m. ET and two face-to-face meetings each calendar year. For 2014, teleconference only meetings will be February 19, 2014; March 19, 2014; April 16, 2014; May 21, 2014; June 18, 2014; July 16, 2014; September 17, 2014; October 15, 2014; November 19, 2014; and December 17, 2014 at 1:00 p.m. ET to discuss the ideas and views presented at the previous ELAB meetings, as well as new business. Items to be discussed by ELAB over these coming meetings include: (1) Issues in continuing the expansion of national environmental accreditation; (2) ELAB support to the Agency on issues relating to measurement and monitoring for all programs; and (3) follow-up on some of ELAB's past recommendations and issues. In addition to these teleconferences, ELAB will be hosting their two face-to-face meetings with teleconference line also available on January 27, 2014 at the Hyatt Regency Louisville in Louisville, KY at 8:00 a.m. (CT) and on August 4, 2014 at the Hyatt Regency on Capitol Hill in Washington, DC at 8:00 a.m. (ET).

Written comments on laboratory accreditation issues and/or environmental monitoring or measurement issues are encouraged and should be sent to Ms. Lara P. Phelps, DFO, US EPA (E243-05), 109 T. W. Alexander Drive, Research Triangle Park, NC 27709 or emailed to phelps.lara@epa.gov. Members of the public are invited to listen to the teleconference calls, and time permitting, will be allowed to comment on issues discussed during this and previous ELAB meetings. Those persons interested in attending should call Lara P. Phelps at (919) 541-5544 to obtain teleconference information. For information on access or services for individuals with disabilities, please contact Lara P. Phelps at the number above. To request accommodation of a disability, please contact Lara P. Phelps, preferably at least 10 days prior to the meeting, to give EPA as much time as possible to process your request.

Dated: December 12, 2013.
Glenn Paulson,
Science Advisor.

[FR Doc. 2013-30374 Filed 12-19-13; 8:45 am]

BILLING CODE 6560-50-P